FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than November 18, 2002.

A. Federal Reserve Bank of Philadelphia (Michael E. Collins, Senior Vice President) 100 North 6th Street, Philadelphia, Pennsylvania 19105-1521:

1. Franklin Financial Services Corporation, Chambersburg, Pennsylvania; to acquire up to 23.5 percent of the voting shares of American Home Bank, National Association, Lancaster, Pennsylvania.

B. Federal Reserve Bank of Chicago (Phillip Jackson, Applications Officer) 230 South LaSalle Street, Chicago, Illinois 60690-1414:

1. Mahaska Investment Company, and Mahaska Investment Company ESOP, both of Oposkaloosa, Iowa; to acquire 100 percent of the voting shares of Belle Plaine Service Corporation, Belle Plaine, Iowa, and thereby indirectly acquire voting shares of Citizens Bank and Trust Company, Hudson, Iowa.

C. Federal Reserve Bank of Minneapolis (Julie Stackhouse, Vice President) 90 Hennepin Avenue, Minneapolis, Minnesota 55480-0291:

1. TCF Financial Corporation, Wayzata, Minnesota; to acquire an additional 5 percent of the voting shares, thereby increasing its total ownership to 9.99 percent, of the voting share of MainStreet BankShares, Inc., Martinsville, Virginia, and thereby indirectly acquire additional voting shares of Smith River Community Bank, N.A., Martinsville, Virginia, and Franklin Community Bank, N.A., Rocky Mount, Virginia, a de novo bank.

D. Federal Reserve Bank of Kansas City (Susan Zubradt, Assistant Vice President) 925 Grand Avenue, Kansas City, Missouri 64198-0001:

1. First Okmulgee Corporation, Okmulgee, Oklahoma; to acquire 100 percent of the voting shares of First National of Henryetta, Inc., Henryetta, Oklahoma, and thereby indirectly acquire voting shares of First National Bank of Henryetta, Henryetta, Oklahoma.

Board of Governors of the Federal Reserve System, October 11, 2002.
Robert deV. Frierson,
Deputy Secretary of the Board.

[FR Doc. 02-26544 Filed 10-17-02; 8:45 am]

BILLING CODE 6210-01-P